DEPARTMENT OF AGRICULTURE

Food Safety and Inspection Service

9 CFR Parts 301, 303, 317, 318, 319, 320, 325, 331, 381, 417, and 430

[Docket No. 97-013N2]

Performance Standards for the Production of Processed Meat and Poultry Products; Reopening of Comment Period

AGENCY: Food Safety and Inspection Service, USDA.

ACTION: Proposed rule; reopening and extension of comment period.

SUMMARY: The Food Safety and Inspection Service (FSIS) is reopening and extending until September 10, 2001, the comment period for the proposed regulations concerning ready-to-eat and partially heat-treated meat and poultry products that closed on June 28, 2001. As of June 28, 2001. As of June 28, 2001, FSIS is reopening and extending the comment period in response to a request from a consortium of trade associations.

DATES: Comments on the proposed regulations must be received on or before September 10, 2001.

ADDRESSES: Send all written comments on the proposed regulations to: FSIS Docket No. 97-013P, Department of Agriculture, Food Safety and Inspection Service, Room 102, 300 12th Street, SW., Washington, DC 20250-3700. All comments received will be considered part of the public record and will be available for viewing in the Docket Room between 8:30 a.m. and 4:30 p.m. Monday through Friday.

FOR FURTHER INFORMATION CONTACT: Daniel Engeljohn, Ph.D., Director, Regulations Development and Analysis Division, Office of Policy, Program Development, and Evaluation, Food Safety and Inspection Service, Room 112 Cotton Annex, 300 12th Street, SW, Washington, DC 20250. Telephone number (202) 720-5627, fax number (202) 690-0486.

SUPPLEMENTARY INFORMATION: On February 27, 2001, FSIS published a proposed rule “Performance Standards for the Production of Processed Meat and Poultry Products” (66 FR 12590). In that document, the Agency proposed food safety performance standards applicable to all ready-to-eat and all partially heat-treated meat and poultry products, as well as environmental testing requirements intended to reduce the incidence of Listeria monocytogenes in RTE meat and poultry products. FSIS also proposed to convert to performance standards the existing regulatory requirements for thermally-processed, commercially sterile (most often canned) meat and poultry products and to rescind certain requirements requiring the elimination of trichina from products that contain pork.

FSIS originally provided for a 90-day comment period on the proposed regulations ending on May 29, 2001. On April 13, 2001 (66 FR 19102), FSIS extended the comment period an additional 30 days, through June 28, 2001, to provide opportunity for the public to comment on issues raised at the technical conference and public meetings concerning the proposed regulations, which were held May 8 through 10, 2001. As of June 28, 2001, FSIS is reopening and again extending the comment period on the proposed regulations, this time until September 10, 2001.

On May 22, 2001, a consortium of trade associations representing the meat and poultry industries requested that FSIS extend the comment period for 120 days, until October 28, 2001. The consortium noted that FSIS has solicited a great deal of scientific and economic data regarding the proposed regulations and stated that it needed additional time to provide this data. The consortium also requested additional time to review the draft compliance guidance for the regulations, distributed by FSIS at the May 9 and 10 public meetings, as well as the draft risk assessment on the relationship between foodborne L. monocytogenes and human health developed by the Food and Drug Administration in cooperation with FSIS and the Centers for Disease Control and Prevention.

FSIS agrees that additional time is necessary for regulated industries, consumers, and other interested parties to submit comments, collect and submit the solicited data, and review the related draft compliance guidance and risk assessment documents. FSIS is reopening and extending the comment period until September 10, 2001, which will provide additional time for comments to be made, while ensuring that the rulemaking proceeds in a timely manner. As a result of this reopening and extension, the comment period for the proposed regulations will total 195 days.

Thomas J. Billy,
Administrator.

[FR Doc. 01-16618 Filed 6-27-01; 4:09 pm]

BILLING CODE 3410-DM-P